DEPARTMENT OF DEFENSE

Defense Acquisition Regulations System

[Docket Number DARS-2016-0043; OMB Control Number 0704-0398]

Information Collection Requirement; Defense Federal Acquisition Regulation Supplement; Describing Agency Needs

AGENCY: Defense Acquisition Regulations System, Department of Defense (DoD).

ACTION: Notice and request for comments regarding a proposed extension of an approved information collection requirement.

SUMMARY: DoD announces the proposed extension of a public information collection requirement and seeks public comment on the provisions thereof. The Office of Management and Budget (OMB) has approved this information collection requirement for use through March 31, 2017. DoD proposes that OMB extend its approval for an additional three years.

DATES: DoD will consider all comments received by February 21, 2017.

ADDRESSES: You may submit comments, identified by OMB Control Number 0704-0398, using any of the following methods:

○ Federal eRulemaking Portal: http://www.regulations.gov. Follow the instructions for submitting comments.

○ Email: osd.dfars@mail.mil. Include OMB Control Number 0704-0398 in the subject line of the message.

○ Fax: 571-372-6094.

○ Mail: Defense Acquisition Regulations System, Attn: Mr. Tom Ruckdaschel, OUSD(AT&L)DPAP/DARS, Room 3B941, 3060 Defense Pentagon, Washington, DC 20301-3060.

Comments received generally will be posted without change to http://www.regulations.gov, including any personal information provided. To confirm receipt of your comment(s), please check www.regulations.gov approximately two to three days after submission to verify posting. Please allow 30 days for posting of comments submitted by postal mail.

FOR FURTHER INFORMATION CONTACT: Mr. Tom Ruckdaschel, telephone 571-372-6088. The information collection requirements addressed in this notice are available at: http://www.acq.osd.mil/dpap/dars/dfarspgi/current/index.html. Paper copies are available from Mr. Tom Ruckdaschel, OUSD(AT&L)DPAP(DARS), Room 3B941, 3060 Defense Pentagon, Washington, DC 20301-3060.

SUPPLEMENTARY INFORMATION: In compliance with section 3506(c)(2)(A) of the Paperwork Reduction Act of 1995 (44 U.S.C. chapter 35), DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology.

Title and OMB Number: Defense Federal Acquisition Regulation Supplement (DFARS) Part 211, Describing Agency Needs, and related clause at DFARS 252.211.

Needs and Uses:

a. The information collected under DFARS provision 252.211-7004, Alternate Preservation, Packaging, and Packing, is used by DoD contracting officers to evaluate and award contracts using commercial or industrial preservation, packaging, or packing if the offeror chooses to propose such alternates.

b. The information collected under DFARS provision 252.211-7005, Substitutions for Military or Federal Specifications and Standards, is used by DoD contracting officers to verify that a Single Process Initiative (SPI) process proposed by an offeror is a valid replacement for a military or Federal specification or standard.

c. The information collected under DFARS 252.211-7007, Reporting of Government-Furnished Property, strengthens the accountability and end-to-end traceability of Government-furnished property (GFP) within DoD. Through electronic notification of physical receipt, the contracting officer is made aware that GFP has arrived at the contractor's facility. The DoD logistics community uses the information as a data source of available DoD equipment. In addition, the DoD organization responsible for contract administration uses the data to test the adequacy of the contractor's property management system.

Affected Public: Businesses or other for-profit and not-for-profit institutions.

Number of Respondents: 641.

Responses per Respondent: 102 (approximately).

Number of Responses: 65,573.

Hours per Response: 0.27 (approximately).

Estimated Hours: 17,836.

Frequency: On occasion.

Summary of Information Collection

a. DFARS 252.211-7004 allows potential offerors to propose alternatives to military preservation, packaging, or packing specifications. Specifically, the offeror may include in its offer two unit prices in the format specified in the clause: One price based on use of the military specifications, and another price based on commercial or industry preservation, packaging, or packing of equal or better protection that the military.

b. DFARS provision 252.211-7005 permits offerors to propose SPI processes as alternatives to military or Federal specifications and standards cited in DoD solicitations for previously developed items. As defined in the clause, “SPI process” means a management or manufacturing process that has been accepted previously by a DoD Management Council for use in lieu of a specific military or Federal specification or standard a specific facilities. When proposing SPI processes, offerors identify the proposed SPI process, specific facility to which it will apply, and the specific contract line items, which will be affected.

c. DFARS clause 252.211-7007 requires contractors to report to the Item Unique Identification (IUID) Registry all serially-managed Government-furnished property (GFP), as well as contractor receipt of non-serially managed items. “Serially managed item” means an item designated by DoD to be uniquely tracked, controlled, or managed in maintenance, repair, and/or supply systems by means of its serial number. The clause provides a list of specific data elements contractors are to report to the IUID registry, as well as procedures for updating the registry.

Jennifer L. Hawes,
Editor, Defense Acquisition Regulations System.

[FR Doc. 2016-31015 Filed 12-22-16; 8:45 am]

BILLING CODE 5001-06-P